DEPARTMENT OF ENERGY

Federal Energy Regulatory Commission

[Project No. 9074-053]

Warrensburg Hydropower Limited Partnership; Notice of Intent To File License Application, Filing of Pre-Application Document, and Approving Use of the Traditional Licensing Process

a. Type of Application: Notice of Intent to File License Application and Request to Use the Traditional Licensing Process.

b. Project No.: 9074-053.

c. Date Filed: September 3, 2021.

d. Submitted by: Warrensburg Hydropower Limited Partnership (Warrensburg Hydro).

e. Name of Project: Warrensburg Hydroelectric Project.

f. Location: Located on the Schroon River in the town of Warrensburg, Warren County, New York. The project does not occupy any federal land.

g. Filed Pursuant to: 18 CFR 5.3 of the Commission's regulations.

h. Potential Applicant Contact: Mr. Erik Bergman, Manager, Warrensburg Hydropower Limited Partnership, 33 Hudson Falls Road, South Glens, NY 12803, Phone: (518) 480-3962, Email: erik.bergman@boralex.com.

i. FERC Contact: John Stokely, Phone: (202) 502-8534, Email: john.stokely@ferc.gov.

j. Warrensburg Hydro filed its request to use the Traditional Licensing Process on September 3, 2021. Warrensburg Hydro provided public notice of its request on September 15, 2021. In a letter dated October 21, 2021, the Director of the Division of Hydropower Licensing approved Warrensburg Hydro's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Warrensburg Hydro as the Commission's non-federal representative for carrying out informal consultation pursuant to section 7 of the Endangered Species Act and section 305(b) of the Magnuson-Stevens Fishery Conservation and Management Act; and consultation pursuant to section 106 of the National Historic Preservation Act.

m. Warrensburg Hydro filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a new license for Project No. 9074. Pursuant to 18 CFR 16.8, 16.9, and 16.10 each application for a new license and any competing license applications must be filed with the Commission at least 24 months prior to the expiration of the existing license. All applications for license for this project must be filed by December 31, 2024.

p. Register online at http://www.ferc.gov/docs-filing/esubscription.asp to be notified via email of new filing and issuances related to this or other pending projects. For assistance, contact FERC Online Support.

Dated: October 21, 2021.
Debbie-Anne A. Reese,
Deputy Secretary.

[FR Doc. 2021-23417 Filed 10-26-21; 8:45 am]

BILLING CODE 6717-01-P